DEPARTMENT OF LABOR

Employee Benefits Security Administration

29 CFR Parts 2509, 2510, 2520, 2550, 2560, 2570, 2575, 2582, 2584, 2589 and 2590

Change of Agency Name; Technical Amendments

AGENCY: Employee Benefits Security Administration, Department of Labor.

ACTION: Final rule; nomenclature change and technical amendments.

SUMMARY: In accordance Secretary of Labor Order 1-2003, which changed the name of the Pension and Welfare Benefits Administration to the Employee Benefits Security Administration, this document revises all references to the “Pension and Welfare Benefits Administration” in chapter XXV of title 29 of the Code of Federal Regulations. This document also makes conforming changes to all references to “PWBA,” “Assistant Secretary for Pension and Welfare Benefits,” and similar references in chapter XXV. In addition, this document updates authority citations in chapter XXV to reflect the Secretary of Labor's Order 1-2003. Finally, this document makes certain other corrections to agency telephone numbers and addresses in chapter XXV. All the changes made in this rule are strictly technical.

DATES: Effective date: This rule is effective on April 3, 2003. Applicability date: The changes made by this rule to §§ 2520.102-3 and 2520.104b-10 are applicable to any disclosures required to be furnished on or after January 1, 2004.

FOR FURTHER INFORMATION CONTACT: Shelly Mui, Office of Regulations and Interpretations, Employee Benefits Security Administration, U.S. Department of Labor, Washington, DC 20210, (202) 693-8523 (not a toll free number).

SUPPLEMENTARY INFORMATION:

I. Summary of Rule

On February 3, 2003, the Secretary of Labor published in the Federal Register Secretary of Labor's Order No. 1-2003 (68 FR 5374). This order renamed the Pension and Welfare Benefits Administration (PWBA) as the Employee Benefits Security Administration (EBSA). The title, “Assistant Secretary for Pension and Welfare Benefits” became “Assistant Secretary for Employee Benefits Security.” All the functions formerly carried out by PWBA and this Assistant Secretary remain unchanged. As a result of this name change, we are revising all references to “Pension and Welfare Benefits Administration,” “PWBA,” “Assistant Secretary for Pension and Welfare Benefits” and similar references in chapter XXV of the Code of Federal Regulations. In addition, because the Secretary of Labor's Order 1-2003 supersedes Secretary of Labor's Order 1-87, this document updates the authority citations for certain parts of this chapter. Finally, this document makes certain other corrections to agency telephone numbers and addresses.

II. Administrative Procedure Act

Because this regulation merely implements a change in the name of a government agency and in the titles of certain government officers, it relates only to agency organization, procedure or practice, and, accordingly, requirements for prior notice and public comment do not apply. 5 U.S.C. 553(b)(3)(A). In any event, the Department for good cause finds, pursuant to 5 U.S.C. 553(b)(3)(B), that notice and public comment thereon are unnecessary. In addition, and for the same reasons, the Department for good cause finds, pursuant to 5 U.S.C. 553(d)(3), that this rule should take effect immediately.

III. Paperwork Reduction Act

This final rule does not include a collection of information as defined in 44 U.S.C. 3502(3) of the Paperwork Reduction Act of 1995. This rule will require modification of the content of disclosures specified in 29 CFR 2520.102-3, pertaining to Summary Plan Descriptions, and § 2520.104b-10, pertaining to Summary Annual Reports. The information collection provisions of those sections are currently approved under OMB control numbers 1210-0039 and 1210-0040, respectively. Required changes in the references to the agency name are not substantive or material modifications to the existing collections of information. The delayed applicability date for these changes should further limit any associated burden. Accordingly, the modifications to these collections of information have not been submitted to OMB for review.

IV. Regulatory Flexibility Act

Because this regulation is being promulgated without a proposal and an opportunity for public comments, the Regulatory Flexibility Act (5 U.S.C. 601 et seq.) does not apply. In any event, the technical amendments made by this regulation will not have a significant impact on a substantial number of small entities.

V. Congressional Review Act

This regulation is a rule of agency organization, procedure or practice that does not substantially affect the rights or obligations of non-agency parties. It is therefore not subject to the Congressional Review Act pursuant to 5 U.S.C. 801 and 804(1).

VI. Executive Order 12866—Regulatory Planning and Review

We have consulted the Office of Management and Budget and determined that this rule does not meet the criteria for a significant regulatory action under Executive Order 12866.

VII. Executive Order 13132—Federalism

This rule does not have Federalism implications under Executive Order 13132.

For the reasons set forth in the preamble, the Department of Labor amends chapter XXV of title 29 of the Code of Federal Regulations as follows:

CHAPTER XXV—EMPLOYEE BENEFITS SECURITY ADMINISTRATION, DEPARTMENT OF LABOR

1. Revise the heading for chapter XXV to read as set forth above.

2. In addition to the other amendments herein, in chapter XXV:

a. Revise all references to “Pension and Welfare Benefits Administration” to read “Employee Benefits Security Administration”;

b. Revise all references to “PWBA” to read “EBSA”;

c. Revise all references to “Assistant Secretary for Pension and Welfare Benefits” to read “Assistant Secretary for Employee Benefits Security”; and

d. Revise all references to “http://www.dol.gov/dol/pwba” to read “http://www.dol.gov/ebsa”.

SUBCHAPTER A—GENERAL

PART 2509—INTERPRETIVE BULLETINS RELATING TO THE EMPLOYEE RETIREMENT INCOME SECURITY ACT OF 1974

3. The authority citation for part 2509 is revised to read as follows:

Authority: 29 U.S.C. 1135 and Secretary of Labor's Order 1-2003, 68 FR 5374 (Feb. 3, 2003). Secs. 2509.75-10 and 2509-75-2 issued under 29 U.S.C. 1052, 1053, 1054.

SUBCHAPTER B—DEFINITIONS AND COVERAGE UNDER THE EMPLOYEE RETIREMENT INCOME SECURITY ACT OF 1974

PART 2510—DEFINITIONS OF TERMS USED IN SUBCHAPTERS C, D, E, F AND G OF THIS CHAPTER

4. The authority citation for part 2510 is revised to read as follows:

Authority: 29 U.S.C. 1002(2), 1002(21), 1002(37), 1031, and 1135; Secretary of Labor's Order 1-2003, 68 FR 5374 (Feb. 3, 2003). Sec. 2510.3-101 also issued under sec. 102 of Reorganization Plan No. 4 of 1978, 43 FR 47713 (Oct. 17, 1978), effective Dec. 31, 1978, 44 FR 1065 (Jan. 3, 1978); 3 CFR 1978 Comp. 332, and 29 U.S.C. 1135 note. Sec. 2510.3-102 also issued under sec. 102 of Reorganization Plan No. 4 of 1978, 43 FR 47713 (Oct. 17, 1978), effective Dec. 31, 1978, 44 FR 1065 (Jan. 3, 1978), and 3 CFR 1978 Comp. 332.

SUBCHAPTER C—REPORTING AND DISCLOSURE UNDER THE EMPLOYEE RETIRMENT INCOME SECURITY ACT OF 1974

PART 2520—RULES AND REGULATIONS FOR REPORTING AND DISCLOSURE

5. The authority citation for part 2520 is revised to read as follows:

Authority: 29 U.S.C. 1021-1025, 1027, 1029-31, 1059, 1134 and 1135; Secretary of Labor's Order 1-2003, 68 FR 5374 (Feb. 3, 2003). Sec. 2520.101-2 also issued under 29 U.S.C. 1132, 1181-1183, 1181 note, 1185, 1185a-b, 1191, and 1191a-c. Secs. 2520.102-3, 2520.104b-1 and 2520.104b-3 also issued under 29 U.S.C. 1003,1181-1183, 1181 note, 1185, 1185a-b, 1191, and 1191a-c. Secs. 2520.104b-1 and 2520.107 also issued under 26 U.S.C. 401 note, 111 Stat. 788.

§ 2520.104-22 [Amended]

6. Amend section 2520.104-22 as follows:

a. Remove from paragraph (c) the phrase “Room N-5664” wherever it appears and add, in its place, the phrase “Room N-1513”, and

b. Remove from paragraph (c) the phrase “Division of Reports, Office of Program Services, Pension and Welfare Benefits Administration” and add, in its place, the phrase “Employee Benefits Security Administration.”

§ 2520.104-23 [Amended]

7. Amend section 2520.104-23 as follows:

a. Remove from paragraph (c) the phrase “Room N-5664” wherever it appears and add, in its place, the phrase “Room N-1513”, and

b. Remove from paragraph (c) the phrase “Division of Reports, Office of Program Services, Pension and Welfare Benefits Administration” and add, in its place, the phrase “Employee Benefits Security Administration”.

§ 2520.104b-10 [Amended]

8. Amend section 2520.104b-10 by revising the last sentence of both paragraphs (d)(3) and (d)(4) under the heading “Your Rights to Additional Information” to read “Requests to the Department should be addressed to: Public Disclosure Room, Room N-1513, Employee Benefits Security Administration, U.S. Department of Labor, 200 Constitution Avenue, N.W., Washington, D.C. 20210.”.

SUBCHAPTER F—FIDUCIARY RESPONSIBILITY UNDER THE EMPLOYEE RETIREMENT INCOME SECURITY ACT OF 1974

PART 2550—RULES AND REGULATIONS FOR FIDUCIARY RESPONSIBILITY

9. The authority citation for part 2550 is revised to read as follows:

Authority: 29 U.S.C. 1135, and Secretary of Labor's Order 1-2003, 68 FR 5374 (Feb. 3, 2003). Sec. 2550.401b-1 also issued under sec. 102, Reorganization Plan No. 4 of 1978, 43 FR 47713 (Oct. 17, 1978), 3 CFR, 1978 Comp. 332, effective Dec. 31, 1978, 44 FR 1065 (Jan. 3, 1978), 3 CFR 1978 Comp. 332. Sec. 2550.401c-1 also issued under 29 U.S.C. 1101. Sec. 2550.404c-1 also issued under 29 U.S.C. 1104. Sec. 2550.407c-3 also issued under 29 U.S.C. 1107. Sec. 2550.408b-1 also issued under 29 U.S.C. 1108(b)(1) and sec. 102, Reorganization Plan No. 4 of 1978, 3 CFR, 1978 Comp. p. 332, effective Dec. 31, 1978, 44 FR 1065 (Jan. 3, 1978), and 3 CFR 1978 Comp. 332. Sec. 2550.412-1 also issued under 29 U.S.C. 1112.

SUBCHAPTER G—ADMINISTRATION AND ENFORCEMENT UNDER THE EMPLOYEE RETIREMENT INCOME SECURITY ACT OF 1974

PART 2560—RULES AND REGULATIONS FOR ADMINISTRATION AND ENFORCEMENT

10. The authority citation for part 2560 is revised to read as follows:

Authority: 29 U.S.C. 1132, 1135, and Secretary of Labor's Order 1-2003, 68 FR 5374 (Feb. 3, 2003). Sec. 2560.503-1 also issued under 29 U.S.C. 1133.

PART 2570—PROCEDURAL REGULATIONS UNDER THE EMPLOYEE RETIREMENT INCOME SECURITY ACT

11. The authority citation in part 2570 is revised to read as follows:

Authority: 5 U.S.C. 8477, 29 U.S.C. 1021, 1108, 1132, 1135, sec. 102, Reorganization Plan No. 4 of 1978, 3 CFR, 1978 Comp. p. 332, effective Dec. 31, 1978, 44 FR 1065 (Jan. 3, 1978), 3 CFR 1978 Comp. 332; Secretary of Labor's Order 1-2003, 68 FR 5374 (Feb.3, 2003).

§ 2570.82 [Amended]

12. Revise the reference to “Area Directors for Pension and Welfare Benefits” in paragraph (e) of section 2570.82 to read “Regional Directors for Employee Benefits Security.”

PART 2575—ADJUSTMENT OF CIVIL PENALTIES UNDER ERISA TITLE I

13. The authority citation in part 2575 is revised to read as follows:

Authority: 29 U.S.C. 1135; 28 U.S.C. 2461 note; Secretary of Labor's Order 1-2003, 68 FR 5374 (Feb. 3, 2003).

SUBCHAPTER J—FIDUCIARY RESPONSIBILITY UNDER THE FEDERAL EMPLOYEES' RETIREMENT SYSTEM ACT OF 1986

PART 2582—RULES AND REGULATIONS FOR FIDUCIARY RESPONSIBILITY

14. The authority citation in part 2582 is revised to read as follows:

Authority: 5 U.S.C. 8478 and 8478 note; Secretary of Labor's Order 1-2003, 68 FR 5374 (Feb. 3, 2003).

PART 2584—RULES AND REGULATIONS FOR THE ALLOCATION OF FIDUCIARY RESPONSIBILITY

15. The authority citation in part 2584 is revised to read as follows:

Authority: 5 U.S.C. 8477(e)(1)(E) and Secretary of Labor's Order 1-2003, 68 FR 5374 (Feb. 3, 2003).

PART 2589—RULES AND REGULATIONS FOR ADMINISTRATION AND ENFORCEMENT

16. The authority citation for part 2589 is revised to read as follows:

Authority: 5 U.S.C. 8477(e)(1)(B) and (f); Secretary of Labor's Order 1-2003, 68 FR 5374 (Feb. 3, 2003).

SUBCHAPTER L—HEALTH INSURANCE PORTABILITY AND RENEWABILITY FOR GROUP HEALTH PLANS

PART 2590—RULES AND REGULATIONS FOR GROUP HEALTH PLAN REQUIREMENTS

17. The authority citation in part 2590 is revised to read as follows:

Authority: 29 U.S.C. 1027, 1059, 1135, 1169, 1181-1183, 1181 note, 1185, 1185a, 1185b, 1191, 1191a, 1191b, and 1191c, 42 U.S.C. 651 note; Secretary of Labor's Order 1-2003, 68 FR 5374 (Feb. 3, 2003).

Signed at Washington, DC this 28th day of March 2003.
Ann L. Combs,
Assistant Secretary for Employee Benefits Security, U.S. Department of Labor.

[FR Doc. 03-8099 Filed 4-2-03; 8:45 am]

BILLING CODE 4510-29-P